ENVIRONMENTAL PROTECTION AGENCY

[EPA-HQ-OPPT-2012-0917; FRL-9911-30-OEI]

Information Collection Request Renewal; Submitted to OMB for Review and Approval; Comment Request; Safer Detergent Stewardship Initiative (SDSI) Program (Renewal)

AGENCY: Environmental Protection Agency (EPA).

ACTION: Notice.

SUMMARY: EPA has submitted the following information collection request (ICR) to the Office of Management and Budget (OMB) for review and approval in accordance with the Paperwork Reduction Act (44 U.S.C. 3501 et seq.): “Safer Detergent Stewardship Initiative (SDSI) Program” (EPA ICR No. 2261.03, OMB Control No. 2070-0171). This is for the renewal of an ICR that is currently approved through May 31, 2014. EPA received no comments in response to the public review opportunity issued on October 2, 2013 (78 FR 60867). With this submission, EPA is also providing additional 30 days for public comments. An Agency may not conduct or sponsor and a person is not required to respond to a collection of information unless it displays a currently valid OMB control number.

DATES: Additional comments may be submitted on or before June 27, 2014.

ADDRESSES: Submit your comments, referencing Docket ID Number EPA-HQ-OPPT-2012-0917, to (1) EPA online using http://www.regulations.gov, or by mail to: EPA Docket Center, Environmental Protection Agency, Mail Code 28221T, 1200 Pennsylvania Ave. NW., Washington, DC 20460, and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Pamela Myrick, Deputy Director, Environmental Assistance Division, Office of Pollution Prevention and Toxics, Mail code: 7408-M, Environmental Protection Agency, 1200 Pennsylvania Ave. NW., Washington, DC 20460; telephone number: 202-554-1404; fax number: 202-564-8251; email address: TSCA-Hotline@epa.gov.

SUPPLEMENTARY INFORMATION:

Docket: Supporting documents which explain in detail the information that the EPA will be collecting are available in the public docket for this ICR. The docket can be viewed online at http://www.regulations.gov or in person at the EPA Docket Center, WJC West, Room 3334, 1301 Constitution Ave. NW., Washington, DC. The telephone number for the Docket Center is 202-566-1744. For additional information about EPA's public docket, visit http://www.epa.gov/dockets.

Title: Safer Detergent Stewardship Initiative (SDSI) Program.

ICR numbers: EPA ICR No. 2261.03, OMB Control No. 2070-0171.

ICR Status: The current OMB approval for this ICR is scheduled to expire on May 31, 2014. Under OMB regulations, the Agency may continue to conduct or sponsor the collection of information while this submission is pending at OMB.

Abstract: SDSI is a voluntary program administered by the EPA to offer resources and recognition to businesses involved in the transition to safer surfactants. Surfactants are a major ingredient in cleaning products such as detergents, cleaners, airplane deicers and fire-fighting foams. Safer surfactants are those that break down quickly to non-polluting compounds.

Under SDSI, businesses that have fully transitioned to safer surfactants, or (for non-profits, academic institutions, etc.) can document outstanding efforts to encourage the use of safer surfactants, are granted Champion status. At this level, the participant is invited to the SDSI awards ceremony, listed on the EPA SDSI Web site as a champion, and may use a special logo in their literature to help explain their participation in the program. Businesses that commit to a full and timely transition to safer surfactants, or (for non-profits, academic institutions, etc.) can document outstanding efforts to encourage the use of safer surfactants, are granted Partner status. This category provides recognition of significant accomplishments towards the use of safer surfactants. Partners will be listed on the EPA SDSI Web site and may be granted recognition as a Champion in the future if appropriate. This information collection addresses reporting activities that support the administration of the SDSI program.

Responses to this collection of information are voluntary. Respondents may claim all or part of a response confidential. EPA will disclose information that is covered by a claim of confidentiality only to the extent permitted by, and in accordance with, the procedures in TSCA section 14 and 40 CFR part 2.

Form Numbers: EPA Form 6300-2.

Respondents/affected entities: Entities potentially affected by this action are establishments or organizations engaged in formulating, producing, purchasing or distributing surfactants or products containing surfactants.

Respondent's obligation to respond: Voluntary.

Estimated number of respondents: 14 (total).

Frequency of response: On occasion.

Total estimated burden: 140 hours per year. Burden is defined at 5 CFR 1320.03(b).

Total estimated cost: $8,232 per year, includes $0 annualized capital or operation and maintenance costs.

Changes in the Estimates: There is no change in the number of hours in the total estimated respondent burden compared with the ICR currently approved by OMB.

Dated: May 16, 2014.
Erin Collard,
Acting Director, Collection Strategies Division.

[FR Doc. 2014-12317 Filed 5-27-14; 8:45 am]

BILLING CODE 6560-50-P